DEPARTMENT OF COMMERCE

International Trade Administration

[C-570-968]

Aluminum Extrusions From the People's Republic of China: Notice of Court Decision Not in Harmony With the Results of Countervailing Duty Administrative Review; Notice of Amended Final Results

AGENCY: Enforcement and Compliance, International Trade Administration, Department of Commerce.

SUMMARY: On July 9, 2025, the U.S. Court of International Trade (CIT) issued its final judgment in Kingtom Aluminio, S.R.L., et al v. United States, Consol. Court No. 22-00079, sustaining the U.S. Department of Commerce's (Commerce) first remand results pertaining to the administrative review of the countervailing duty (CVD) order on aluminum extrusions from People's Republic of China (China) covering the period of review (POR) January 1, 2019, through December 31, 2019. Commerce is notifying the public that the CIT's final judgment is not in harmony with Commerce's final results of the administrative review, and that Commerce is amending the final results with respect to the countervailable subsidy rate assigned to producer and/or exporter Kingtom Aluminio S.R.L. (Kingtom).

DATES: Applicable July 19, 2025.

FOR FURTHER INFORMATION CONTACT: Janae Martin, AD/CVD Operations, Office VI, Enforcement and Compliance, International Trade Administration, U.S. Department of Commerce, 1401 Constitution Avenue NW, Washington, DC 20230; phone: (202) 482-0238.

SUPPLEMENTARY INFORMATION:

Background

On February 9, 2022, Commerce published its Final Results in the 2019 CVD administrative review of aluminum extrusions from China. In the Final Results, Commerce rejected Kingtom's claim that it had no entries of subject merchandise during the POR.¹ Specifically, Commerce found that Kingtom did have entries of subject merchandise during the POR because U.S. Customs and Border Protection (CBP) had recategorized Kingtom's entries as type 03 (i.e., entry for consumption subject to AD/CVD duties) based upon its determination of evasion.² Commerce made it clear in both the Preliminary Results and the Final Results that treatment of the entries under review as type 03 was made to be consistent with CBP's determinations of evasion and the resultant recategorization of Kingtom's entries.³

¹ See Aluminum Extrusions from the People's Republic of China: Final Results of Countervailing Duty Administrative Review and Rescission of Review, in Part; 2019, 87 FR 7423 (February 9, 2022) (Final Results), and accompanying Issues and Decision Memorandum (IDM) at Comment 1.

² See Aluminum Extrusions from the People's Republic of China: Preliminary Results of Countervailing Duty Administrative Review and Intent to Rescind, in Part; 2019, 86 FR 43173 (August 6, 2021) (Preliminary Results), and accompanying Preliminary Decision Memorandum (PDM) at 4.

³ See Final Results IDM at Comment 1.

Kingtom appealed Commerce's Final Results. On August 1, 2022, the CIT granted Commerce's request to stay Kingtom's appeal pending the outcome of remand proceedings in the two cases involving the EAPA determinations, Global Aluminum and H&E Home.⁴ On November 6, 2024, the CIT granted Commerce's request for a voluntary remand of the Final Results.⁵ In its Request for Voluntary Remand, Commerce cited the CIT's decisions sustaining CBP's determinations to reverse its affirmative evasion finding with respect to Kingtom.⁶ The CIT granted Commerce's request to reconsider its Final Results in light of the remand results in Global Aluminum and H&E Home.

⁴ See See Kingtom Aluminio S.R.L., et al v. United States, Court No. 22-00079, ECF No. 29 (August 1, 2022) (citing Global Aluminum Distrib. LLC v. United States, 585 F. Supp. 3d 1338 (CIT 2022) (Global Aluminum); and H&E Home, Inc. v. United States, 714 F. Supp.3d 1353 (CIT 2024) (H&E Home).

⁵ See Kingtom Aluminio S.R.L., et al v. United States, Court No. 22-00079, ECF No. 44 (November 6, 2024).

⁶ See Kingtom Aluminio S.R.L., et al v. United States, Court No. 22-00079, ECF No. 43 (October 18, 2024) (Request for Voluntary Remand) (citing Global Aluminum and H&E Home).

In its final remand redetermination, issued March 5, 2025, Commerce reviewed its Final Results in light of Global Aluminum and H&E Home, accepting Kingtom's certification of no shipments ⁷ and determining that Kingtom had no dutiable entries to the United States during the POR.⁸ The CIT sustained Commerce's Final Redetermination.⁹

⁷ See Kingtom's Letter, “Certification of No Sales, Shipments, or Entries,” dated August 10, 2020.

⁸ See Final Results of Redetermination Pursuant to Court Remand, Kingtom Aluminio, S.R.L., et al v. United States, Court No. 22-00079, March 4, 2025 (Final Redetermination).

⁹ See Kingtom Aluminio, S.R.L., et al v. United States, Slip Op. 25-88 (CIT July 9, 2025).

Timken Notice

In its decision in Timken,¹⁰ as clarified by Diamond Sawblades,¹¹ the U.S. Court of Appeals for the Federal Circuit held that, pursuant to section 516A(c) and (e) of the Tariff Act of 1930, as amended (the Act), Commerce must publish a notice of court decision that is not “in harmony” with a Commerce determination and must suspend liquidation of entries pending a “conclusive” court decision. The CIT's July 9, 2025, judgment constitutes a final decision of the CIT that is not in harmony with Commerce's Final Results. Thus, this notice is published in fulfillment of the publication requirements of Timken.

¹⁰ See Timken Co. v. United States, 893 F.2d 337 (Fed. Cir. 1990) (Timken).

¹¹ See Diamond Sawblades Manufacturers Coalition v. United States, 626 F.3d 1374 (Fed. Cir. 2010) (Diamond Sawblades).

Amended Final Results

Because there is now a final court judgment, Commerce is amending its Final Results with respect to Kingtom as follows: (1) we are accepting Kingtom's no shipments certification and making a final determination of no shipments with respect to Kingtom, and (2) because there are no reviewable entries during the POR by Kingtom, we are rescinding the 2019 administrative review with respect to Kingtom.

Cash Deposit Requirements

Kingtom did not have a company-specific rate in a prior segment of this proceeding, and because we find that Kingtom had no shipments during the POR, we have revised the cash deposit rate for Kingtom. As such, the all-others cash deposit rate of 7.37 ¹² percent ad valorem will apply to Kingtom.¹³ Accordingly, Commerce will issue revised cash deposit instructions to CBP.

¹² See Aluminum Extrusions from the People's Republic of China: Amended Final Affirmative Countervailing Duty Determination Pursuant to Court Decision, 80 FR 69640 (November 10, 2015).

¹³ Kingtom does not have a superseding cash deposit rate, i.e., there have been no final results published in a subsequent administrative review of the CVD order on aluminum extrusions from China in which Kingtom was under review.

Liquidation of Suspended Entries

At this time, Commerce remains enjoined by CIT order from liquidating entries that: were produced and/or exported by Kingtom and were entered, or withdrawn from warehouse, for consumption during the period January 1, 2019, through December 31, 2019. These entries will remain enjoined pursuant to the terms of the injunction during the pendency of any appeals process.

In the event the CIT's ruling is not appealed, or, if appealed, upheld by a final and conclusive court decision, Commerce intends to instruct CBP to assess countervailing duties on unliquidated entries of subject merchandise produced and/or exported by Kingtom in accordance with 19 CFR 351.212(b). We will instruct CBP to assess countervailing duties on all appropriate entries covered by this review when the ad valorem rate is not zero or de minimis. Where an ad valorem subsidy rate is zero or de minimis,¹⁴ we will instruct CBP to liquidate the appropriate entries without regard to countervailing duties.

¹⁴ See 19 CFR 351.106(c)(2).

Notification to Interested Parties

This notice is issued and published in accordance with sections 516A(c) and (e) and 777(i)(1) of the Act.

Dated: July 11, 2025.
Christopher Abbott,
Deputy Assistant Secretary for Policy and Negotiations, performing the non-exclusive functions and duties of the Assistant Secretary for Enforcement and Compliance.

[FR Doc. 2025-13390 Filed 7-16-25; 8:45 am]

BILLING CODE 3510-DS-P